INTERNATIONAL TRADE COMMISSION

[Investigation No. 731-TA-1197 (Final)]

Steel Wire Garment Hangers From Taiwan

Determination

On the basis of the record ¹ developed in the subject investigation, the United States International Trade Commission (Commission) determines, pursuant to section 735(b) of the Tariff Act of 1930 (19 U.S.C. 1673d(b)) (the Act), that an industry in the United States is materially injured by reason of imports of steel wire garment hangers from Taiwan, provided for in subheading 7326.20.00 of the Harmonized Tariff Schedule of the United States, that the U.S. Department of Commerce has determined are sold in the United States at less than fair value (“LTFV”).²

¹ The record is defined in sec. 207.2(f) of the Commission's Rules of Practice and Procedure (19 CFR 207.2(f)).

² All six Commissioners voted in the affirmative.

Background

The Commission instituted this investigation effective December 29, 2011, following receipt of a petition filed with the Commission and Commerce by M&B Metal Products Company, Inc., Leeds, AL; Innovative Fabrication LLC/Indy Hanger, Indianapolis, IN; and US Hanger Company LLC, Gardena, CA. The final phase of the investigation was scheduled by the Commission following notification of a preliminary determination by Commerce that imports of steel wire garment hangers from Taiwan were dumped within the meaning of 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register on August 20, 2012 (77 FR 50160) and on August 22, 2012 (77 FR 50713, corrected). The hearing was held in Washington, DC, on October 24, 2012, and all persons who requested the opportunity were permitted to appear in person or by counsel.

The Commission transmitted its determination in this investigation to the Secretary of Commerce on November 29, 2012. The views of the Commission are contained in USITC Publication 4363 (November 2012), entitled Steel Wire Garment Hangers from Taiwan: Investigation No. 731-TA-1197 (Final).

By order of the Commission.
Issued: November 30, 2012.
Lisa R. Barton,
Acting Secretary to the Commission.

[FR Doc. 2012-29439 Filed 12-5-12; 8:45 am]

BILLING CODE 7020-02-P